DEPARTMENT OF COMMERCE

Economics and Statistics Administration

Customer Satisfaction Survey

ACTION: Proposed collection; comments request.

SUMMARY: The Department of Commerce, as part of its continuing effort to reduce paperwork and respondent burden, invites the general public and other Federal agencies to take this opportunity to comment on a proposed information collection, as required by the Paperwork Reduction Act of 1995, Public Law 104-13, 4 U.S.C. 3506(c)(2)(A).

DATES: Written comments must be submitted on or before April 17, 2000.

ADDRESSES: Direct all written comments to Linda Engelmeier, Departmental Forms Clearance Officer, Office of the Chief Information Officer, Department of Commerce, Room 5027, 14th and Constitution Avenue, NW, Washington, DC 20230.(or via e-mail at LEngelme@doc.gov).

FOR FURTHER INFORMATION CONTACT: Requests for additional information or copies of the information collection instrument(s) and instructions should be directed to Bob Wendling, STAT-USA, Department of Commerce, 14th & Constitution Avenue, NW, Room 4886, Washington, DC 20230.

SUPPLEMENTARY INFORMATION:

I. Abstract

This information collection is necessary to help STAT-USA fulfill its mission of disseminating economic and statistical information to the business community and individual users. STAT-USA plans to survey its current customer base annually with a 25-question Customer Satisfaction Survey. STAT-USA plans to use a number of survey formats including mail, fax, on-line, and paper in order to ensure a high response rate. STAT-USA believes that regular communication with its customers, specifically feedback from the survey, will enable it to deliver its goods and services in the most user-friendly, economical and efficient manner. Only by knowing its customer base and its needs can STAT-USA continue to deliver the highest quality of collected economic and statistical information.

II. Method of Collection

Primarily through the mail. Other vehicles may include fax and on-line through the Internet. Respondents would mail or fax surveys back to STAT-USA. An on-line survey could be in place on the World Wide Web allowing respondents to complete the survey and “submit” it to the STAT-USA server.

III. Data

OMB Number: None.

Form Number: None.

Type of Review: Initial collection.

Affected Public: Businesses and individual data users.

Estimated Number of Respondents: 4,000.

Estimated Time Per Response: 12 minutes.

Estimated Total Annual Burden Hours: 800.

Estimated Total Annual Cost: $10,000.

IV. Request for Comments

Comments are invited on: (a) Whether the proposed collection of information is necessary for the proper performance of the functions of the agency, including whether the information shall have practical utility; (b) the accuracy of the agency's estimate of the burden including hours and cost of the proposed collection of information; (c) ways to enhance the quality, utility, and clarity of the information to be collected; and (d) ways to minimized the burden of the collection of information on respondents including through the use of automated collection techniques or other forms of information technology. The Department particularly welcomes comments on the burden estimates to comply with the requirements, as well as the costs associated with it. Comments submitted in response to this notice will be summarized and/or included in the request for OMB approval of this information collection; they will also become a matter of public record.

Dated: February 8, 2000.
Linda Engelmeier,
Departmental Forms Clearance Officer, Office of the Chief Information Officer.

[FR Doc. 00-3560 Filed 2-14-00; 8:45 am]

BILLING CODE 3510-07-P